EXPORT-IMPORT BANK

[Public Notice 2020-3004]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before December 28, 2020 to be assured of consideration.

ADDRESSES: Comments may be submitted electronically on www.regulations.gov (EIB 00-02).

SUPPLEMENTARY INFORMATION: EXIM plans to invite approximately 150 U.S. exporters and commercial lending institutions that have used EXIM's short-, medium-, and long-term programs over the previous calendar year with an electronic invitation to participate in the online survey. The proposed survey will ask participants to evaluate the competitiveness of EXIM's programs and how the programs compare to those of foreign credit agencies. EXIM will use the responses to develop an analysis of the Bank's competitiveness.

The survey can be reviewed at: https://www.exim.gov/sites/default/files/pub/pending/EXIM_Competitiveness_Report_Survey.pdf.

Titles and Form Number: EIB 00-02 Annual Competitiveness Report Survey of Exporters and Bankers.

OMB Number: 3048-0004.

Type of Review: Renewal.

Need and Use: The information requested enables EXIM to evaluate and assess its competitiveness with the programs and activities of the major official entities and to report on the Bank's status in this regard.

Affected Public

The number of respondents: 150.

Estimated time per respondents: 90 minutes.

The frequency of response: Annually.

Annual hour burden: 225 total hours.

Government Expenses

Reviewing time per response: 45 minutes.

Responses per year: 150.

Reviewing time per year: 112.5 hours.

Average wages per hour: $42.50.

Average cost per year: $4,781.25 (time * wages).

Benefits and overhead: 20%.

Total government cost: $5737.5.

Bassam Doughman,
IT Specialist.

[FR Doc. 2020-26001 Filed 11-24-20; 8:45 am]

BILLING CODE 6690-01-P